DEPARTMENT OF THE INTERIOR

Bureau of Land Management

[ID-095-04-1430-FM; IDI-34282;DBG 04-0002]

Notice of Intent To Amend the Lower Snake River District's Cascade Resource Management Plan and Notice of Exchange Proposal

AGENCY: Bureau of Land Management, Interior.

ACTION: Notice of Intent and Notice of Exchange Proposal.

SUMMARY: This notice provides for two related proposals, one a proposed plan amendment and the other a proposed land exchange. The proposed plan amendment would involve about 137.73 acres of Federal Land. The proposed land exchange would involve about 341.54 acres of Federal land and 730 acres of land owned by the State of Idaho.

DATES: The Bureau of Land Management must receive your comments within 45 days of the date of the publication of this notice in the Federal Register at the address listed below. You may submit comments concerning the plan amendment, proposed exchange, including notification of any liens, encumbrances, or other claims relating to the lands we are considering for exchange.

ADDRESSES: Please send your written comments to the Bureau of Land Management, Four Rivers Field Office, 3948 Development Avenue, Boise, ID 83705, attention Daryl Albiston.

FOR FURTHER INFORMATION CONTACT: For further information, contact Daryl Albiston, Four Rivers Field Manager at (208) 384-3430.

SUPPLEMENTARY INFORMATION: The Bureau of Land Management (BLM) is proposing to amend the Lower Snake River District's Cascade Resource Management Plan (RMP) with respect to the following Federal lands in Ada, Boise, and Valley Counties, Idaho. The plan amendment will consider whether the following lands are suitable for disposal by exchange.

Tract name | Legal description | Acres
Carbarton | Township 13 North, Range 4 East, Valley County |
| Section 7: Lot 3; (NW¼SW¼ | 17.73
Easley Creek | Township 10 North, Range 4 East, Boise County |
| Section 29: N½NW¼, SE¼NW¼ | 120.00
| Total Plan amendment acres | 137.73

The BLM is also considering a proposal to exchange land under section 206 of the Federal Land Policy and Management Act of 1976, as amended (43 U.S.C. 1716) with the Idaho Department of Lands. The BLM is considering all or part of the above described Federal lands (which require a plan amendment) along with all or part of the following Federal land (identified for disposal in an existing plan) for disposal by exchange.

Tract name | Legal description | Acres
Scott | Township 24 North, Range 1 East, Idaho County
| Section 8: NW¼NE¼ | 40.00
| Section 9: SE¼SW¼, SW¼SE¼ | 80.00
| Section 15: SW¼NW¼ | 40.00
Highway 21 | Township 2 North, Range 3 East, Ada County
| Section 5: Lot 4 (NW¼NW¼) | 43.81
| Total | 203.81

BLM is considering a total of 341.54 acres of Federal lands for exchange.

In exchange, the United States would acquire all or a portion of the following described non-Federal land from the Idaho Department of Lands.

Tract name | Legal description | Acres
| Township 3 North, Range 3 East, Ada County
Rocky Canyon East | Section 5: Lots 2, 3, SW¼NE¼, S½NW¼ N½SE¼, SW¼SE¼ | 319.44
Rocky Canyon West | Section 6: Lots 4, 5, 6, 7, S½NE¼, SE¼NW¼, E½SW¼, N½SE¼ | 410.88
| Total State Acres | 730.32

Subject to valid existing rights, BLM segregated the Federal lands identified above from appropriation under the public land laws and mineral laws beginning February 25, 2003.

Daryl Albiston,
Field Manager, Four Rivers Field Office, Bureau of Land Management.

[FR Doc. 04-4146 Filed 3-2-04; 8:45 am]

BILLING CODE 4310-66-P